GENERAL SERVICES ADMINISTRATION

[Notice-PBS-2025-07; Docket No. 2025-0002; Sequence No. 13]

Notice of Availability for the Record of Decision on the Final Environmental Impact Statement and Floodplain and Wetlands Assessment and Statement of Findings for the Grand Portage Land Port of Entry Modernization and Expansion Project in Grand Portage, Minnesota

AGENCY: Public Buildings Service (PBS), Great Lakes Region 5, United States (U.S.), General Services Administration (GSA).

ACTION: Notice.

SUMMARY: GSA issued a Record of Decision (ROD) for the Final Environmental Impact Statement (EIS) and Floodplain and Wetlands Assessment and Statement of Findings for the Modernization and Expansion of the Grand Portage Land Port of Entry (LPOE) in Grand Portage, Minnesota on [DATE], 2025 (Identification Number: EISX-023-00-005-1728295331). The ROD was prepared in accordance with the National Environmental Policy Act (NEPA) of 1969 and GSA PBS NEPA Desk Guide.

ADDRESSES: The ROD can be found online the following website: https://www.gsa.gov/about-us/gsa-regions/region-5-great-lakes/buildings-and-facilities/minnesota/grand-portage-land-port-of-entry.

FOR FURTHER INFORMATION CONTACT: Matthew Heiman, Senior Project Manager, GSA at matthew.heiman@gsa.gov or call 612-615-6172.

SUPPLEMENTARY INFORMATION:

Background

The Grand Portage LPOE is located within the Grand Portage Reservation of the Grand Portage Band of Lake Superior Chippewa (herein referred to as the Grand Portage Band). The existing Grand Portage LPOE is owned and managed by GSA and is operated by the U.S. Department of Homeland Security's Customs and Border Protection (CBP). The existing 5.7-acre Grand Portage LPOE serves as the port of entry for vehicles and pedestrians crossing the U.S.-Canada border between Grand Portage Reservation in the U.S. and Neebing, Ontario in Canada.

GSA prepared a Final EIS and Floodplain and Wetlands Assessment and Statement of Findings for the purpose of analyzing the potential environmental, cultural, and economic impacts resulting from the Proposed Action to modernize and expand the existing Grand Portage LPOE.

The purpose of the Proposed Action is for GSA to support CBP's mission by bringing the Grand Portage LPOE operations in line with current land port design standards and operational requirements of CBP while addressing existing deficiencies identified with the ongoing port operations. In order to bring the Grand Portage LPOE operations in line with CBP's design standards and operational requirements, the Proposed Action is needed to (1) address space constraints and inefficient traffic flows; (2) shorten and expedite vehicle processing time, to include improving daily commutes across the U.S.-Canada border; (3) decrease congestion and long wait times during the peak travel season; (4) allow CBP to process a higher volume of vehicles traveling to and from Canada, to include further accommodation of potential future spikes in travelers crossing the U.S.-Canada border; and (5) provide a wider single lane for large semi-trucks hauling wind turbine components from Canada.

On September 22, 2023, GSA published a Notice of Intent for the EIS in the Federal Register (88 FR 65392) and underwent a 30-day scoping period that ended on October 22, 2023. The NOA for the Draft EIS was published in the Federal Register (89 FR 87373) on November 1, 2024 and was available for a 45-day public comment period that ended on December 16, 2024. The NOA for the Final EIS was published in the Federal Register (90 FR 19719) on May 9, 2025 and was available for a 30-day waiting period that ended on June 8, 2025.

Comments received, along with GSA's responses, during the Final SEIS waiting period are provided in an attachment to the ROD.

Preferred Alternative

GSA has chosen to implement the Proposed Action as defined in the Final EIS. This decision is based on the Final EIS issued in May 2025; associated technical reports; comments from federal and state agencies, stakeholders, members of the public, tribes, and elected officials; and miscellaneous resources contained in the administrative record.

The Proposed Action is defined in the 2025 Final EIS and includes replacement of the Grand Portage LPOE with a modernized facility on an expanded footprint that encompasses approximately 10.4 acres. The Proposed Action will also include utility upgrades and construction of renewable energy technologies (i.e. solar or geothermal), as needed. This will include construction of a 7.3-mile buried power line within an existing utility right-of-way along the western side of Highway 61 to provide three-phase power to the modernized and expanded Grand Portage LPOE. A construction phasing plan will be developed during design and implemented during demolition and construction to ensure continuity of operations of the LPOE, as well as minimize disruptions to the adjacent Grand Portage State Park and more broadly the Grand Portage Reservation lands.

The Proposed Action was selected because it best satisfies the purpose and need for the project, while resulting in the fewest substantial, adverse environmental consequences.

GSA is currently undergoing formal consultation with the Grand Portage Band Tribal Historic Preservation Officer (THPO) to follow coordination procedures as required under Section 106 of the National Historic Preservation Act (NHPA) to determine impacts to historic properties. Mitigation measures may be determined in consultation between GSA, the THPO, and applicable consulting parties.

The project area occurs within a region unmapped by the Federal Emergency Management Agency for floodplains and floodways. GSA therefore assumed that the project area is located within a 1-percent-annual-chance or 0.2-percent-annual-chance floodplain and prepared a Floodplain and Wetlands Assessment and Statement of Findings addressing potential impacts on floodplains and wetlands, which is included in the 2025 Final EIS.

Russell Riberto,
Regional Commissioner, Great Lakes Region 5, U.S. General Services Administration.

[FR Doc. 2025-13202 Filed 7-14-25; 8:45 am]

BILLING CODE 6820-CF-P